DEPARTMENT OF VETERANS AFFAIRS

MyVA Federal Advisory Committee Notice of Meeting

The Department of Veterans Affairs (VA) gives notice under the Federal Advisory Committee Act, 5 U.S.C. App. 2, that the MyVA Advisory Committee (MVAC) will meet April 14 and 15, 2015 at the Department of Veterans Affairs, Board of Veterans' Appeals Conference Room, 425 I Street NW., 4th Floor, Room 4E.400, Washington, DC. The sessions will begin at 8:30 a.m. each day. On Tuesday, April 14 the session ends at 4:30 p.m., and ends at 1:00 p.m. on Wednesday, April 15. The meeting is open to the public.

The purpose of the Committee is to advise the Secretary, through the Executive Director, My VA Task Force Office, regarding the My VA initiative and VA's ability to rebuild trust with Veterans and other stakeholders, improve service delivery with a focus on Veteran outcomes, and set the course for longer-term excellence and reform of the VA.

On April 14, agenda topics will include: An overview of VA, the Committee's charge, and the MyVA work conducted to date. Information with be provided on the five key MyVA work streams—Veteran Experience (explaining the research conducted to understand the Veteran's experience and needs), People and Culture, Support Services Excellence (such as information technology and human resources), Performance Improvement (projects undertaken to date and those upcoming), and VA Strategic Partnerships. An ethics briefing for the Committee will also be provided.

On April 15, the Committee will discuss its charge, a prioritization of Committee activities and discuss the need for convening subcommittees. No time will be allocated at this meeting for receiving oral presentations from the public. However, the public may submit written statements for the Committee's review to Sharon Gilles, Designated Federal Officer, MyVA Program Management Office, Department of Veterans Affairs, 810 Vermont Avenue NW., Room 430, Washington, DC 20420, or email at Sharon.Gilles@VA.gov. Because the meeting will be held in a Government building, anyone attending must be prepared to show a valid photo ID. Please allow 15 minutes before the meeting begins for this process. Any member of the public wishing to attend the meeting or seeking additional information should contact Ms. Gilles.

Dated: March 12, 2015.
Jelessa Burney,
Federal Advisory Committee Management Officer.

[FR Doc. 2015-06040 Filed 3-16-15; 8:45 am]

BILLING CODE P